SECURITIES AND EXCHANGE COMMISSION

[Release No. 34-69545; File No. SR-ICC-2013-03]

Self-Regulatory Organizations; ICE Clear Credit LLC; Notice of Withdrawal of Proposed Rule Change Relating to Recovery and Resolution Arrangements

May 9, 2013.

On March 7, 2013, ICE Clear Credit LLC (“ICC”) filed with the Securities and Exchange Commission (“Commission”), pursuant to Section 19(b)(1) of the Securities Exchange Act of 1934 ¹ and Rule 19b-4 thereunder,² a proposed rule change relating to clearinghouse resolution and recovery arrangements. Notice of the proposed rule change was published in the Federal Register on March 27, 2013.³ The Commission did not receive comments on the proposed rule change.

¹ 15 U.S.C. 78s(b)(1).

² 17 CFR 240.19b-4.

³ Securities Exchange Act Release No. 69201 (Mar. 21, 2013), 78 FR 18646 (Mar. 27, 2013).

On May 7, 2013, ICC withdrew the proposed rule change (SR-ICC-2013-03).

For the Commission, by the Division of Trading and Markets, pursuant to delegated authority.⁴
⁴ 17 CFR 200.30-3(a)(12).
Kevin M. O'Neill,
Deputy Secretary .

[FR Doc. 2013-11517 Filed 5-14-13; 8:45 am]

BILLING CODE 8011-01-P